DEPARTMENT OF DEFENSE

Department of the Army

Notice of Availability—Draft Environmental Impact Statement (DEIS) for the Northern Training Complex With a Multi-Purpose Digital Training Range and Expanded Maneuver Areas, Drop Zones and Landing Zones at Fort Knox, Kentucky

AGENCY: U.S. Army Armor Center and Fort Knox, Department of the Army, DoD.

ACTION: Notice of Availability.

SUMMARY: In compliance with the National Environmental Policy Act (NEPA), the Army has prepared a Draft Environmental Impact Statement (DEIS) for the construction and operation of a multi-purpose digital training range and a series of maneuver areas, drop zones and landing zones at Fort Knox, Kentucky. The DEIS analyzes the impacts of the proposed facilities. These facilities would provide a multi-functional war-fighting capability to meet the Army's training needs for soldiers in urban and restricted terrain combat scenarios. The DEIS identifies various alternatives and the associated environmental impacts of the proposed alternatives.

DATES: Written comments will be received on or before July 9, 2001 by the U.S. Environmental Protection Agency.

ADDRESSES: Questions about the DEIS, submission of written comments or requests for copies of the DEIS may be made to: Environmental Management Division, Directorate of Base Operations Support, U.S. Army Armor Center, ATTN: ATZK-OSE, Building 1110, Room 216, Ironsides & 6th Avenue, Fort Knox, KY 40121-5000. Submit electronic comments and data by email to: Linda.Pollock@knox.army.mil.

FOR FURTHER INFORMATION CONTACT: Mr. Al Freeland or Mrs. Gail Pollock, Environmental Management Division, Directorate of Base Operations Support, U.S. Army Armor Center, ATTN: ATZK-OSE, Building 1110, Room 216, Ironsides & 6th Avenue, Fort Knox, KY 40121-5000, by calling (502) 624-3629 or by fax at (502) 624-3000.

SUPPLEMENTARY INFORMATION: The proposed project includes upgrading an existing training range to a modern digitized multi-purpose training range; construction of a series of landing zones, drop zones and maneuver areas and a grassed C130 landing strip; upgrade of existing roads; installation of fiber optics and other infrastructure improvements. The facilities would prepare the mounted force warriors for full spectrum combat operations. The proposed facilities would fully support new equipment training such as the M1A2 Main Battle Bank (MBT) Systems Enhancement Package (SEP), the M2A3 Bradley Fighting Vehicles, and the Light Armored Vehicle (LAV III), as well as other enhanced vehicles requiring digital capability. These vehicles are equipped with a dynamic new computer system that uses digital technology to provide soldiers with on the move and instantaneous battlefield communications. The Notice of Intent for the proposed project was published in the Federal Register (65 FR 31534, May 18, 2000).

Submit electronic comments and data by sending via electronic mail (email) to Linda.Pollock@knox.army.mil. Submit comments as an ASCII file avoiding the use of special characters and any form of encryption. Fort Knox also accepts data on disks in Microsoft Word 2000 file format or ASCII format.

Individuals who wish to review the DEIS may examine a copy at any of the following locations: Barr Library, 400 Quartermaster Street, Fort Knox, Kentucky 40121-5000 and Ridgeway Memorial Library, 127 North Walnut Street, P.O. Box 146, Shepherdsville, Kentucky 40165.

The DEIS has also been distributed to Federal, state, and local regulatory agencies, known interested organizations, and those individuals who have requested it.

Dated: May 17, 2001.
Raymond J. Fatz,
Deputy Assistant Secretary of the Army (Environment, Safety and Occupational Health), OASA (I&E)

[FR Doc. 01-12981 Filed 5-22-01; 8:45 am]

BILLING CODE 3710-08-M